DEPARTMENT OF TRANSPORTATION

Federal Aviation Administration

14 CFR Part 71

[Docket No. FAA-2002-14129; Airspace Docket No. 02-ACE-14]

Establishment of Class E Surface Area Airspace and Modification of Class E Airspace; Jefferson City, MO

AGENCY: Federal Aviation Administration (FAA), DOT.

ACTION: Final rule.

SUMMARY: This document establishes a Class E surface area at Jefferson City, MO for those times when the air traffic control tower (ATCT) is closed. It also makes editorial changes to the legal descriptions of Class E airspace designated as an extension to the Class D surface area and to Class E airspace extending upward from 700 feet above the surface of the earth at Jefferson City, MO.

EFFECTIVE DATE: 0901 UTC, April 17, 2003.

FOR FURTHER INFORMATION CONTACT: Brenda Mumper, Air Traffic Division, Airspace Branch, ACE-520A, DOT Regional Headquarters Building, Federal Aviation Administration, 901 Locust, Kansas City, MO 64106; telephone (816) 329-2524.

SUPPLEMENTARY INFORMATION:

History

On Friday, January 17, 2003, the FAA proposed to amend 14 CFR part 71 to establish a Class E surface area and to modify Class E airspace at Jefferson City, MO (68 FR 2462). The proposal was to establish a Class E surface area at Jefferson City, MO for those times when the air traffic control tower (ATCT) is closed. It also proposed to make editorial changes to the descriptions of Class E airspace designated as an extension to the Class D surface area and to Class E airspace extending upward from 700 feet above the surface of the earth at Jefferson City, MO. Interested parties were invited to participate in this rulemaking proceeding by submitting written comments on the proposal to the FAA. No comments objecting to the proposal were received.

Class E airspace areas designated as surface areas are published in paragraph 6002 of FAA Order 7400.9K, dated August 30, 2002, and effective September 16, 2002, which is incorporated by reference in 14 CFR 71.1. Class E airspace areas designated as an extension to the Class D surface area and Class E airspace areas extending upward from 700 feet or more above the surface of the earth are published in Paragraphs 6004 and 6005, respectively, of the same FAA Order. The Class E airspace designations listed in this document will be published subsequently in the Order.

The Rule

This amendment to Part 71 of the Federal Aviation Regulations (14 CFR Part 71) establishes a Class E surface area at Jefferson City, MO to provide adequate controlled airspace for aircraft executing instrument flight procedures. It also modifies the legal descriptions of Class E airspace designated as an extension to the Class D surface area and to Class E airspace extending upward from 700 feet above the surface of the earth at Jefferson City, MO. The areas will be depicted on appropriate aeronautical charts.

The FAA has determined that this regulation only involves an established body of technical regulations for which frequent and routine amendments are necessary to keep them operationally current. Therefore, this regulation—(1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (Air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for part 71 continues to read as follows:

Authority: 49 U.S.C. 106(g); 40103, 40113, 40120; E.O. 10854, 24 FR 9565, 3 CFR, 1959-1963 Comp., p. 389.

§ 71.1 [Amended]

2. The incorporation by reference in 14 CFR 71.1 of Federal Aviation Administration Order 7400.9K, Airspace Designations and Reporting Points, dated August 30, 2002, and effective September 16, 2002, is amended as follows:

Paragraph 6002 Class E Airspace Designated as Surface Areas.

* * * * *

ACE MO E2 Jefferson City, MO

Jefferson City Memorial Airport, MO

(Lat 38°35′28″ N., long 92°09′22″ W.)

Jefferson City Memorial Airport, ILS

(Lat 38°35′47″ N., long. 92°09′55″ W.)

That airspace extending upward from the surface within a 4.1-mile radius of Jefferson City Memorial Airport and within 2.6 miles each side of the Jefferson City Memorial Airport localizer back course extending from the 4.1-mile radius of Jefferson City Memorial Airport to 5 miles northwest of the airport. This Class E airspace area is effective during the specific dates and times established in advance by a Notice to Airmen. The effective date and time will thereafter be continuously published in the Airport/Facility Director.

* * * * *

Paragraph 6004 Class E Airspace Areas Designated as an Extension to a Class D or Class E Surface Area.

* * * * *

ACE MO E4 Jefferson City, MO

Jefferson City Memorial Airport, MO

(Lat. 38°35′28″ N., long. 92°09′22″ W.)

Jefferson City Memorial Airport ILS

(Lat 38°35′47″ N., long. 92°09′55″ W.)

That airspace extending upward from the surface within 2.6 miles each side of the Jefferson City Memorial Airport localizer back course extending from the 4.1-mile radius of Jefferson City Memorial Airport to 5 miles northwest of the airport. This Class E airspace area is effective during the specific dates and times established in advance by a Notice to Airmen. The effective date and time will thereafter be continuously published in the Airport/Facility Director.

* * * * *

Paragraph 6005 Class E Airspace Areas Extending Upward From 700 Feet or More Above the Surface of the Earth

* * * * *

ACE MO E5 Jefferson City, MO

Jefferson City Memorial Airport, MO

(Lat. 38°35′28″ N., long. 92°09′22″ W.)

NOAH NDB

(Lat. 38°38′14″ N., long. 92°14′41″ W.)

Jefferson City Memorial Airport ILS

(Lat 38°35′47″ N., long. 92°09′55″ W.)

The airspace extending upward from 700 feet above the surface within a 6.6-mile radius of the Jefferson City Memorial Airport; and within 3.1 miles each side of the NOAH NDB 303° bearing extending from the 6.6-mile radius to 14.3 miles northwest of the airport; and within 4 miles each side of the Jefferson City Memorial Airport ILS localizer course extending from the 6.6-mile radius to 11.8 miles southwest of the airport.

* * * * *

Issued in Kansas City, MO, March 3, 2003.
Paul J. Sheridan,
Acting Manager, Air Traffic Division, Central Region.

[FR Doc. 03-5927 Filed 3-11-03; 8:45 am]

BILLING CODE 4910-13-M